NUCLEAR REGULATORY COMMISSION

[Docket Nos. 50-269, 50-270, 50-287]

Duke Energy Corporation; Oconee Nuclear Station, Units 1, 2, and 3; Environmental Assessment and Finding of No Significant Impact

The U.S. Nuclear Regulatory Commission (NRC) is considering issuance of an exemption from 10 CFR 55.59 for Facility Operating License Nos. DPR-38, DPR-47, and DPR-55, issued to the Duke Energy Corporation (DEC, the licensee), for operation of the Oconee Nuclear Station, Units 1, 2, and 3, located in Seneca, South Carolina.

Environmental Assessment

Identification of the Proposed Action

The proposed action would allow the licensed operator requalification examinations for the Oconee Nuclear Station, Units 1, 2, and 3 to be rescheduled. The requested exemption would extend the completion date for the examinations from June 4, 2001, to July 13, 2001. The proposed action is in accordance with the licensee's application for exemption dated March 6, 2001.

The Need for the Proposed Action

The proposed action would extend the current Oconee Nuclear Station, Units 1, 2, and 3 requalification program from June 4, 2001, to July 13, 2001. To require the licensee's operators and staff to support the comprehensive examination and operating tests scheduled during the 24-month requalification cycle could have a detrimental effect on the public interest because it would remove qualified operators from refueling operations and place them into the training program, which could interfere with the current Oconee Unit 2 refueling outage schedule. Further, this one-time exemption will provide additional operator support during plant shutdown conditions, which would provide a safety enhancement during plant shutdown operations and post-maintenance testing. The affected licensed operators will continue to demonstrate and possess the required levels of knowledge, skills, and abilities needed to safely operate the plant throughout the transitional period via continuation of the current satisfactory licensed operator requalification program. Upon completion of the examinations on July 13, 2001, the follow-on cycle will end on March 8, 2003. Future annual requalification cycles will run from March to March.

Environmental Impacts of the Proposed Action

The NRC has completed its evaluation of the proposed action and concludes, as set forth below, that there are no environmental impacts associated with the extension of the operator requalification examinations from June 4, 2001, to July 13, 2001. The proposed action will not significantly increase the probability or consequences of accidents, no changes are being made in the types or amounts of any effluents that may be released off site, and there is no significant increase in occupational or public radiation exposure. Therefore, there are no significant radiological environmental impacts associated with the proposed action.

With regard to potential nonradiological impacts, the proposed action does not involve any historic sites. It does not affect nonradiological plant effluents and has no other environmental impact. Therefore, there are no significant nonradiological environmental impacts associated with the proposed action.

Accordingly, the NRC concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action does not involve the use of any resources not previously considered in the Final Environmental Statement for the Oconee Nuclear Station, Units 1, 2, and 3.

Agencies and Persons Consulted

In accordance with its stated policy, on May 18, 2001, the staff consulted with the South Carolina State official, Mr. Henry Porter of the Division of Waste Management, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated March 6, 2001. Documents may be examined, and/or copied for a fee, at the NRC's Public Document Room, located at One White Flint North, 11555 Rockville Pike (first floor), Rockville, Maryland. Publicly available records will be accessible electronically from the ADAMS Public Library component on the NRC Web site, http://www.nrc.gov> (the Public Electronic Reading Room).

Dated at Rockville, Maryland, this 24th day of May 2001.
For the Nuclear Regulatory Commission.
David E. LaBarge,
Senior Project Manager, Section 1, Project Directorate II, Division of Licensing Project Management, Office of Nuclear Reactor Regulation.

[FR Doc. 01-13606 Filed 5-29-01; 8:45 am]

BILLING CODE 7590-01-P